DEPARTMENT OF COMMERCE

International Trade Administration

[A-428-854]

Hexamethylenetetramine From Germany: Final Affirmative Determination of Sales at Less-Than-Fair-Value and Final Affirmative Determination of Critical Circumstances

AGENCY: Enforcement and Compliance, International Trade Administration, Department of Commerce.

SUMMARY: The U.S. Department of Commerce (Commerce) determines that hexamethylenetetramine (hexamine) from Germany is being, or is likely to be, sold in the United States at less than fair value (LTFV). The period of investigation is July 1, 2023, through June 30, 2024.

DATES: Applicable September 23, 2025.

FOR FURTHER INFORMATION CONTACT: Maria Papakostas, AD/CVD Operations, Office IX, Enforcement and Compliance, International Trade Administration, U.S. Department of Commerce, 1401 Constitution Avenue NW, Washington, DC 20230; telephone: (202) 482-0086.

SUPPLEMENTARY INFORMATION:

Background

On May 6, 2025, Commerce published in the Federal Register its preliminary affirmative determination in the LTFV investigation of hexamine from Germany, in which we also postponed the final determination until September 18, 2025, and invited interested parties to comment on the Preliminary Determination.¹ On July 18, 2025, Commerce issued a post-preliminary analysis memorandum in which we made certain changes to our differential pricing analysis and invited interested parties to comment.² On August 27, 2025, Bakelite LLC (the petitioner) filed a timely critical circumstances allegation pursuant to section 773(e)(1) of the Tariff Act of 1930, as amended (the Act), and 19 CFR 351.206(b).³ Because the petitioner alleged critical circumstances for the first time 22 days before the scheduled date of the final determination, we did not make a separate preliminary determination of critical circumstances.⁴

¹ See Hexamethylenetetramine from Germany: Preliminary Affirmative Determination of Sales at Less-Than-Fair-Value, Postponement of Final Determination, and Extension of Provisional Measures, 90 FR 19186 (May 6, 2025) (Preliminary Determination), and accompanying Preliminary Decision Memorandum.

² See Memorandum, “Post-Preliminary Analysis in the Less-Than-Fair-Value Investigation of Hexamethylenetetramine from Germany,” dated July 18, 2025.

³ See Petitioner's Letter, “Critical Circumstances Allegation,” dated August 27, 2025.

⁴ See 19 CFR 351.206(c)(1) (“If the petitioner submits an allegation of critical circumstances 30 days or more before the scheduled date of the Secretary's final determination, the Secretary, based on the available information, will make a preliminary finding whether there is a reasonable basis to believe or suspect that critical circumstances exist, as defined in section 703(e)(1) or section 733(e)(1) of the Act (whichever is applicable)”).

A summary of the events that occurred since Commerce published the Preliminary Determination, as well as a full discussion of the issues raised by parties for this final determination, may be found in the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Affirmative Determination in the Less-Than-Fair-Value Investigation of Hexamethylenetetramine from Germany,” dated concurrently with, and hereby adopted by, this notice (Issues and Decision Memorandum).

Scope of the Investigation

The product covered by this investigation is hexamine from Germany. For a complete description of the scope of this investigation, see Appendix I.

Scope Comments

We received no comments from interested parties on the scope of the investigation as it appeared in the Preliminary Determination. Therefore, we made no changes to the scope of the investigation from that published in the Preliminary Determination for the final determination.

Verification

As provided in section 782(i) of the Act, Commerce conducted verifications of the sales and cost information submitted by Prefere Paraform GmbH & Co Kg (Prefere) for use in the final determination. We used standard verification procedures, including an examination of relevant sales and accounting records, and original source documents provided by Prefere.⁶

⁶ See Memorandum, “Verification of the Sales and Cost Responses of Prefere Paraform GmbH & Co Kg in the Less-Than-Fair-Value Investigation of Hexamethylenetetramine from Germany,” dated July 11, 2025.

Analysis of Comments Received

All issues raised in the case and rebuttal briefs submitted by interested parties in this investigation are addressed in the Issues and Decision Memorandum. A list of the issues addressed in the Issues and Decision Memorandum is attached to this notice as Appendix II.

Final Affirmative Determination of Critical Circumstances

On August 27, 2025, the petitioner alleged that critical circumstances exist with respect to imports of hexamine from Germany.⁷ Pursuant to section 735(a)(3) of the Act and 19 CFR 351.206, we find that critical circumstances exist for Prefere, Fiberpipe GFK Vertriebsgesellschaft (Fiberpipe), and all other producers and exporters. For a full discussion of Commerce's critical circumstances analysis, see the Issues and Decision Memorandum.

⁷ See Petitioner's Letter, “Critical Circumstances Allegation,” dated August 27, 2025.

Changes Since the Preliminary Determination

We made certain changes to the estimated weighted-average dumping margin for Prefere since the Preliminary Determination. For a discussion of these changes, see the Issues and Decision Memorandum.

All-Others Rate

Section 735(c)(5)(A) of the Act provides that Commerce shall determine an estimated all-others rate for all exporters and producers not individually examined. This rate shall be an amount equal to the weighted average of the estimated weighted-average dumping margins established for exporters and producers individually investigated, excluding any zero and de minimis margins, and any margins determined entirely under section 776 of the Act.

In this investigation, Commerce assigned a rate based entirely on adverse facts available to Fiberpipe. Therefore, the only rate that is not zero, de minimis, or based entirely on facts otherwise available is the rate calculated for Prefere. Accordingly, the rate calculated for Prefere is also assigned as the rate for all other producers and exporters, pursuant to section 735(c)(5)(A) of the Act.

Final Determination

Commerce determines that the final estimated weighted-average dumping margins exist:

Exporter/producer | Weighted-average dumping margin (percent)
Prefere Paraform GmbH & Co Kg | 59.29
Fiberpipe GFK Vertriebsgesellschaft | * 102.14
All Others | 59.29
* Rate based on facts available with adverse inferences.

Disclosure

Commerce intends to disclose the calculations performed in connection with this final determination to interested parties within five days of any public announcement or, if there is no public announcement, within five days of the date of publication of this notice in the Federal Register, in accordance with 19 CFR 351.224(b).

Suspension of Liquidation

In accordance with section 735(c)(1)(B) of the Act, Commerce will instruct U.S. Customs and Border Protection (CBP) to continue to suspend liquidation of all entries of hexamine, as described in Appendix I of this notice, which were entered, or withdrawn from warehouse, for consumption on or after May 6, 2025, the date of publication of the Preliminary Determination in the Federal Register. These suspension of liquidation instructions will remain in effect until further notice.

In accordance with section 735(a)(3) of the Act, because we find that critical circumstances exist for Prefere, Fiberpipe, and all other producers and exporters, we will direct CBP to suspend liquidation of all entries of subject merchandise entered, or withdrawn from warehouse for consumption, on or after February 5, 2025, which is 90 days prior to the date of publication of the Preliminary Determination in the Federal Register. As noted above, because the petitioner did not allege that critical circumstances exist until after the publication of the Preliminary Determination and 22 days before the scheduled date of the final determination, we shall instruct CBP to require a cash deposit equal to the estimated weighted-average dumping margin established in the Preliminary Determination for the period prior to the publication of the Preliminary Determination in the Federal Register.⁸

⁸ See section 735(c)(4)(B) of the Act (“If the determination of the administering authority under subsection (a)(2) is affirmative, then the administering authority shall—(B) in cases where the preliminary determination by the administering authority under section 733(b) was affirmative, but the preliminary determination under section 733(e)(1) was negative, modify any suspension of liquidation and security requirement previously ordered under section 733(d) to apply to unliquidated entries of merchandise entered, or withdrawn from warehouse, for consumption on or after the date which is 90 days before the date on which suspension of liquidation was first ordered;”).

Pursuant to section 735(c)(1)(B)(ii) of the Act and 19 CFR 351.210(d), upon publication of this notice, we will instruct CBP to require a cash deposit for estimated antidumping duties as follows: (1) the cash deposit rate for the companies listed in the table above will be equal to the company-specific estimated weighted-average dumping margin determined in this final determination; (2) if the exporter is not a respondent listed in the table above, but the producer is, then the cash deposit rate will be equal to the company-specific estimated weighted-average dumping margin listed for the producer of the subject merchandise; and (3) the cash deposit rate for all other producers and exporters will be equal to the estimated weighted-average dumping margin for all other producers and exporters listed in the table above. These suspension of liquidation instructions will remain in effect until further notice.

U.S. International Trade Commission (ITC) Notification

In accordance with section 735(d) of the Act, Commerce will notify the ITC of our final affirmative determination of sales at LTFV. Because the final determination in this proceeding is affirmative, in accordance with sections 735(b)(2) of the Act, the ITC will make its final determination as to whether the domestic industry in the United States is materially injured, or threatened with material injury, by reason of imports of hexamine from Germany no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed in the “Continuation of Suspension of Liquidation” section above.

Administrative Protective Order (APO)

This notice serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation subject to sanction.

Notification to Interested Parties

This final determination is issued and published in accordance with sections 735(d) and 777(i) of the Act, and 19 CFR 351.210(c).

Dated: September 18, 2025.
Christopher Abbott,
Deputy Assistant Secretary for Policy and Negotiations, performing the non-exclusive functions and duties of the Assistant Secretary for Enforcement and Compliance.

Appendix I

Scope of the Investigation

The scope of the investigation covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of the investigation if performed in the subject country.

Merchandise covered by the scope of the investigation can be classified in the Harmonized Tariff Schedule (HTSUS) of the United States under the subheading 2933.69.5000. The HTSUS subheading and Chemical Abstracts Service registry number are provided for convenience and customs purposes only; however, the written description of the scope is dispositive.

Appendix II

List of Topics Discussed in the Issues and Decision Memorandum

I. Summary

II. Background

III. Final Affirmative Determination of Critical Circumstances

IV. Changes Since the Preliminary Determination

V. Application of Facts Available With Adverse Inferences

VI. Discussion of the Issue

Comment: Whether Commerce Should Apply Total Adverse Facts Available (AFA) to Prefere

VII. Recommendation

[FR Doc. 2025-18440 Filed 9-22-25; 8:45 am]

BILLING CODE 3510-DS-P